DEPARTMENT OF DEFENSE

Office of the Secretary

Renewal of Department of Defense Federal Advisory Committees

AGENCY: DoD.

ACTION: Renewal of Federal Advisory Committee.

SUMMARY: The Department of Defense (DoD) is publishing this notice to announce that it is renewing the charter for the Inland Waterways Users Board (“the Board”).

FOR FURTHER INFORMATION CONTACT: Jim Freeman, Advisory Committee Management Officer for the Department of Defense, 703-692-5952.

SUPPLEMENTARY INFORMATION: This committee's charter is being renewed under the provisions of 33 U.S.C. 2251 and in accordance with the Federal Advisory Committee Act (FACA) of 1972 (5 U.S.C., Appendix, as amended) and 41 CFR 102-3.50(a). The Board is a non-discretionary Federal advisory committee that shall provide the Secretary of Defense, through the Secretary of the Army and the Assistant Secretary of the Army (Civil Works), independent advice and recommendations on matters relating to construction and rehabilitation priorities and spending levels on the commercial navigation features and components of the U.S. inland waterways and inland harbors. According to 33 U.S.C. 2251(b), the Board shall file their recommendations with the Secretary of the Army and with Congress, annually.

Board members, as determined by the DoD, shall be representative members and, under the provisions of 33 U.S.C. 2251(a), the Board shall be composed of 11 members.

Based upon the Secretary of the Army's recommendation, the Secretary of Defense shall invite primary commercial users and shippers of the inland and intra-coastal waterways to serve on the Board. Commercial users and shippers invited to serve on the Board shall designate an individual, subject to Secretary of Defense approval, to represent the organization's interests. The DoD, shall ensure selections represent various regions of the country and a spectrum of the primary users and shippers utilizing the inland and intra-coastal waterways for commercial purposes, when considering prospective users and shippers to be represented on the Board. Due consideration shall be given to assure a balance among the members based on the ton-mile shipments of the various categories of commodities shipped on inland and intra-coastal waterways.

A primary user or shipper may be represented on the Board, at the request of the Secretary of the Army and with the approval of the Secretary of Defense, for a two-year term of service. A user or shipper may not be represented on the Board for more than two consecutive terms of service (four years), without prior approval from the Secretary of Defense. A user or shipper may be subsequently represented on the Board, but only after being off the Board for at least two years. In addition to the primary users and shippers invited by the Secretary of Defense, the Secretary of the Army shall designate, and the Secretaries of Agriculture, Transportation, and Commerce may each designate, a representative to act as an observer of the Board. These observers, who have no voting rights, shall each be a full-time or permanent part-time employee of his or her respective agency.

Pursuant to 33 U.S.C. 2251(a), the Secretary of the Army shall designate one Board member to serve as the Board's Chairperson. With the exception of travel and per diem for official travel, all Board members shall serve without compensation.

The DoD, when necessary and consistent with the Board's mission and DoD policies and procedures, may establish subcommittees, task forces, and working groups to support the Board. Establishment of subcommittees will be based upon a written determination, to include terms of reference, by the Secretary of Defense, the Deputy Secretary of Defense, or the Secretary of the Army, as the DoD Sponsor. All subcommittees, task forces, or working groups shall operate under the provisions of FACA, the Sunshine Act, other governing Federal statutes and regulations, and established DoD policies and procedures.

Currently, the Board does not use subcommittees. If the Department determines that the establishment of subcommittees is warranted, the Board's charter must be amended prior to such establishment.

All subcommittees operate under the provisions of FACA, the Sunshine Act, governing Federal statutes and regulations, and established DoD policies and procedures.

Pursuant to 33 U.S.C. 2251(b), the Board shall meet at least semi-annually.

The Board's Designated Federal Officer (DFO), pursuant to DoD policy, shall be a full-time or permanent part-time DoD employee appointed in accordance with governing DoD policies and procedures.

The Board's DFO is required to be in attendance at all meetings of the Board and any of its subcommittees for the entire duration of each and every meeting. However, in the absence of the Board's DFO, a properly approved Alternate DFO, duly appointed to the Board according to established DoD policies and procedures, shall attend the entire duration of the Board or any subcommittee meeting.

The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Inland Waterways Users Board membership about the Board's mission and functions. Written statements may be submitted at any time or in response to the stated agenda of planned meeting of the Inland Waterways Users Board.

All written statements shall be submitted to the DFO for the Inland Waterways Users Board and this individual will ensure that the written statements are provided to the membership for their consideration. Contact information for the Inland Waterways Users Board DFO can be obtained from the GSA's FACA Database— http://www.facadatabase.gov/.

The DFO, pursuant to 41 CFR 102-3.150, will announce planned meetings of the Inland Waterways Users Board. The DFO, at that time, may provide additional guidance on the submission of written statements that are in response to the stated agenda for the planned meeting in question.

Dated: April 16, 2015.
Aaron Siegel,
Alternate OSD Federal Register Liaison Officer, Department of Defense.

[FR Doc. 2015-09182 Filed 4-20-15; 8:45 am]

BILLING CODE 5001-06-P